DEPARTMENT OF COMMERCE

International Trade Administration

Initiation of Antidumping and Countervailing Duty Administrative Reviews

AGENCY: Import Administration, International Trade Administration, Department of Commerce.

SUMMARY: The Department of Commerce (the Department) has received requests to conduct administrative reviews of various antidumping and countervailing duty orders and findings with November anniversary dates. In accordance with the Department's regulations, we are initiating those administrative reviews.

EFFECTIVE DATE: December 27, 2007.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b) (2007), for administrative reviews of various antidumping and countervailing duty orders and findings with November anniversary dates.

Initiation of Reviews

In accordance with section 19 CFR 351.221(c)(1)(i), we are initiating administrative reviews of the following antidumping and countervailing duty orders and findings. We intend to issue the final results of these reviews not later than November 30, 2008.

| Period to be reviewed
Mexico: Circular Welded Non-Alloy Steel Pipe and Tube, A-201-805 | 11/1/06-10/31/07
Hylsa, S.A. de C.V. Mueller Comercial de Mexico, S. de R.L. de C.V. Southland Pipe Nipples Co., Inc.
Thailand: Certain Hot-Rolled Carbon Steel Flat Products | 11/1/06-10/31/07
Nakornthai Strip Mill Public Company Ltd. G Steel Public Company Limited.
The People's Republic of China: Certain Hot-Rolled Carbon Steel Flat Products ¹, A-570-865 | 11/1/06-10/31/07
Shanghai Baosteel International Economic & Trading Co., Ltd.
Baoshan Iron and Steel Co., Ltd.
Baosteel Group Corporation.
The People's Republic of China: Fresh Garlic ² | 11/1/06-10/31/07
Anqiu Friend Food Co., Ltd.
APS Qingdao.
American Pioneer Shipping.
Anqui Friend Food Co., Ltd.
Anqui Haoshun Trade Co., Ltd.
Beijing Jim International Food Co., Ltd.
Burgeon International Inc.
Fujian Meitan Import & Export Xiamen Corporation.
Golden Bridge International, Inc.
Hebei Golden Bird Trading Co., Ltd.
Henan Xinchang Sunny Foodstuff.
Henan Weite.
Heze Ever-Best International Trade Co., Ltd. (a/k/a Shandong Heze International Trade and Developing Company).
Huaiyang Hongda Dehydrated Vegetable Company.
Jinan Farmlady Trading Co., Ltd.
Jining Yongjia Trade Co., Ltd.
Jining Meiya Foods Co., Ltd.
Jinan Yipin Corporation Ltd.
Jining Trans-High Trading Co., Ltd.
Jinxian County Huaguang Food Import & Export Co., Ltd.
Jinxiang Dongyun Freezing Storage Co., Ltd. (a/k/a Jinxiang Eastward Shipping Import and Export Limited Company).
Jinxiang Shanyang Freezing Storage Co., Ltd.
Jinxiang Tianma Freezing Storage Co., Ltd.
Junan Auto Imp and Exp Co., Ltd.
Linshu Dading Private Agricultural Products Co., Ltd.
Linyi Futai Foodstuff Co., Ltd.
Marnex (HongKong) Company.
New Future International Trading Co.
Omni Decor China Ltd.
Qingdao Aobeilin Import & Export Co.
Qingdao Camel Trading Co., Ltd.
Qingdao Longyuan Aquatic Products.
Qingdao Oasis International Trade Co.
Qingdao Rock-It Sports Inc.
Qingdao Tiantaixing Foods Co., Ltd.
Qingdao Titan Shipping LLC.
Qingdao Saturn International Trade Co., Ltd.
Qingdao Xintianfeng Foods Co., Ltd.
Qufu Dongbao Import & Export Trade Co., Ltd.
Sea Trade International Incorporated.
Shandong Chengshun Farm Produce Trading Co., Ltd.
Shandong Chenhe Int'l Trading Co., Ltd.
Shandong Dongsheng Eastsun Foods Co., Ltd.
Shandong Garlic Company.
Shandong Longtai Fruits and Vegetables Co., Ltd.
Shandong Wonderland Organic Food Co., Ltd.
Shanghai Ever Rich Trade Company.
Shanghai LJ International Trading Co., Ltd.
Shanghai New Long March International Trade Co., Ltd.
Shenzhen Fanhui Import & Export Co., Ltd.
Shenzhen Greening Trading Co., Ltd.
Shenzhen Imp & Exp. Ltd.
Shenzhen Xinboda Industrial Co., Ltd.
Sunny Import & Export Limited.
T&S International, LLC.
Taian Fook Huat Tong Kee Pte. Ltd.
Taiwan Wachine Co., Ltd.
Taiyan Ziyang Food Co., Ltd.
Taizhou Overseas Int'l Ltd.
Weifang Hongqiao International Logistic Co., Ltd.
Weifang Shennong Foodstuff Co., Ltd.
XuZhou Simple Garlic Industry Co., Ltd.
Zhengzhou Harmoni Spice Co., Ltd.
The People's Republic of China: Refined Brown Aluminum Oxide ³, A-570-882 | 11/1/06-10/31/07
Henan Yilong High and New Materials Co., Ltd.
Qingdao Shunxingli Abrasives Co., Ltd.
Countervailing Duty Proceedings
None.
Suspension Agreements
None.
¹ If one of the above-named companies does not qualify for a separate rate, all other exporters of certain hot-rolled carbon steel flat products from the People's Republic of China who have not qualified for a separate rate are deemed to be covered by this review as part of the single PRC entity of which the named exporters are a part.
² If one of the above-named companies does not qualify for a separate rate, all other exporters of Fresh Garlic from the People's Republic of China who have not qualified for a separate rate are deemed to be covered by this review as part of the single PRC entity of which the named exporters are a part.
³ If one of the above-named companies does not qualify for a separate rate, all other exporters of Refined Brown Aluminum Oxide from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: December 19, 2007.
Stephen J. Claeys,
Deputy Assistant Secretary for Import Administration.

[FR Doc. E7-25082 Filed 12-26-07; 8:45 am]

BILLING CODE 3510-DS-P